DEPARTMENT OF THE INTERIOR

Bureau of Land Management

[NV-030-5101-ER-F340; N-76800, N-76897]

Notice of Availability for the North Valleys Rights-of-Way Projects Final Environmental Impact Statement

AGENCY: Department of the Interior, Bureau of Land Management, Carson City Field Office, Nevada.

ACTION: Notice of availability of a final environmental impact statement (EIS) for the North Valleys Rights-of-Way Projects and initiation of a 30-day comment period.

SUMMARY: Pursuant to Section 102(2)(C) of the National Environmental Policy Act (NEPA) and 40 CFR 1500-1508 Council on Environmental Quality Regulations (CEQ), notice is given that the Bureau of Land Management, Carson City Field Office (BLM) has prepared, with the assistance of a third-party consultant, a Final EIS for the proposed North Valleys Rights-of-Way Projects, and has made the document available for public and agency review. The proposed Projects include the construction and operation of two separate water supply and transmission projects located in Washoe County, Nevada. Rights-of-way applications were submitted to the BLM from Intermountain Water Supply, LTD and Fish Springs Ranch, LLC for production well(s), pump station(s), transmission pipeline(s), terminal water storage tank, electrical substation, overhead power lines, and access road rights-of-way.

DATES: Effective Dates: The comment period for the Final EIS will commence with the publication of this notice. The formal comment period will end 30 days after publication of this notice. Comments should be received on or before the end of the comment period at the address listed below.

ADDRESSES: Written comments should be sent to BLM Carson City Field Office, Attn: Terri Knutson, 5665 Morgan Mill Road, Carson City, NV 89701; Fax (775) 885-6147; or e-mail address nvalleyswater_eis@blm.gov. A limited number of the Final EIS may be obtained at the above BLM Field Office in Carson City, NV. Comments, including names and street addresses of respondents, will be available for public review at the above address during regular business hours (7:30 a.m.-5 p.m.), Monday through Friday, except holidays, and may be published as part of the EIS. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives or officials of organizations or businesses, will be made available for public inspection in their entirety.

FOR FURTHER INFORMATION CONTACT: For additional information, write to the above address or call Terri Knutson (BLM Environmental Planner) at (775) 885-6156 or Ken Nelson (BLM Realty Specialist) at (775) 885-6114.

SUPPLEMENTARY INFORMATION: The BLM Carson City Field Office received separate rights-of-way applications from the Fish Springs Ranch, LLC and Intermountain Water Supply, LTD, two independent water companies, proposing to construct and operate water transmission pipelines across public lands in Washoe County, Nevada. The BLM determined that due to the same timing, geography, and similarity of the types of actions, the two proposals would be analyzed in one EIS, together known as the North Valleys Rights-of-Way Projects. Each company is proposing to construct and operate water supply and transmission projects to meet present and future water demands of the Stead/Silver Lake/Lemmon Valley areas (North Valleys) in Washoe County. The proposed Projects consist of groundwater production wells, pump station(s), transmission pipeline(s), electrical substation, overhead power lines, and terminal water storage tank to convey water. The Fish Springs Ranch, LLC proposed pipeline (carrying 8000 acre-feet per year) would begin at the Fish Springs Ranch and proceed approximately 33 miles to the North Valleys. The Intermountain Water Supply, LTD original proposal included a water pipeline to convey approximately 3500 acre-feet per year that would begin in Dry Valley and proceed east a short distance before tying into the same general route south approximately 24 miles to the North Valleys. As a result of a review of public comments and groundwater modeling results for the Draft EIS, Intermountain Water Supply, LTD has reduced their proposed pumping rate to a total of 2500 acre-feet per year for the Final EIS.

The Final EIS assesses the impacts of the two proposed rights-of-way actions and the No Action alternatives and considers an alternative alignment of the pipelines. The Final EIS addresses issues brought forth through scoping and the Draft EIS and has been evaluated by an interdisciplinary team of specialists. The proposed rights-of-way cross several jurisdictions with permitting responsibilities, therefore, the following agencies or entities are active participants in the EIS process as formal cooperating agencies: U.S. Fish & Wildlife Service; U.S. Bureau of Indian Affairs; U.S. Geological Survey; Sierra Army Depot; Pyramid Lake Paiute Tribe; Susanville Indian Rancheria; California Department of Water Resources; California Department of Fish and Game; Lassen County, CA; Washoe County, NV; City of Reno; City of Sparks; Airport Authority of Washoe County; and Truckee Meadows Regional Planning Agency.

Public participation has occurred throughout the EIS process. A Notice of Intent to Prepare an EIS was published in the Federal Register on September 15, 2003 and the public comment period was initiated. A public scoping open house was held in Reno, NV in October 2003 and eight additional presentations were conducted between October 2003 and April 2004. A Notice of Availability for the Draft EIS was published in the Federal Register on May 20, 2005 and a 60-day comment period was initiated. Two public open houses and three local government presentations were conducted in Reno, NV and one community public meeting was conducted in Susanville, CA. A total of 26 comment letters were received on the Draft EIS and the letters and responses to comments are included in the Final EIS.

Comments on the Final EIS should be as specific as possible and should refer to specific pages or chapters in the document. After the comment period ends, all comments will be considered by the BLM in preparing the Record of Decision (ROD).

Dated: September 27, 2005.
Donald T. Hicks,
Manager, Carson City Field Office.

[FR Doc. 05-22345 Filed 11-9-05; 8:45 am]

BILLING CODE 4310-HC-P